DEPARTMENT OF ENERGY

Federal Energy Regulatory Commission

[Docket No. QF03-12-001]

North Texas Wind Center, LLC; Notice of Filing

October 16, 2007.

Take notice that on October 9, 2007, North Texas Wind Center, LLC, c/o Noble Environmental Power, LLC, 8 Railroad Avenue, Suite 8, Essex, CT 06426, on behalf of the NTWC-2 Project (NTWC-2) filed with the Federal Energy Regulatory Commission (Commission) an application for recertification of a facility as a qualifying small power production facility pursuant to 18 CFR 292.207(b) of the Commission's regulations. No determination has been made that the submittal constitutes a complete filing.

NTWC-2 is small power production wind facility currently in development that consists of multiple wind turbine generators with an approximate net power production capacity of 76.8 MW. The facility will be located in Hansford County, Texas.

Interconnection of NTWC-2 will be with a transmission line owned by Xcel Energy, Inc. and operated by its operating subsidiary Southwestern Public Service Company (SPS). NTWC-2 also expects that SPS will be the electric utility that will provide the facility with supplementary, back-up and maintenance power.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 8, 2007.

Kimberly D. Bose,
Secretary.

[FR Doc. E7-20876 Filed 10-23-07; 8:45 am]

BILLING CODE 6717-01-P